NUCLEAR REGULATORY COMMISSION

[NRC-2013-0020]

Biweekly Notice; Applications and Amendments to Facility Operating Licenses and Combined Licenses Involving No Significant Hazards Considerations; Correction

AGENCY: Nuclear Regulatory Commission.

ACTION: Notice; correction.

SUMMARY: The U.S. Nuclear Regulatory Commission (NRC) is correcting a notice that was published in the Federal Register (FR) on February 5, 2013 (78 FR 8195), regarding the applications and amendments to facility operating licenses and combined licenses involving no significant hazards considerations. This action is necessary to correct an erroneous date.

FOR FURTHER INFORMATION CONTACT: Cindy Bladey, Chief, Rules, Announcements, and Directives Branch, Office of Administration, U.S. Nuclear Regulatory Commission, Washington, DC 20555-0001; telephone: 301-415-3667; email: Cindy.Bladey@nrc.gov.

Correction

In the FR of February 5, 2013, in FR Doc. 2013-02352, on page 8202, first column, correct the fourth full paragraph to read:

Date of initial notice in Federal Register: September 4, 2012 (77 FR 53927).

Dated at Rockville, Maryland, this 18th day of March, 2013.
For the Nuclear Regulatory Commission.
Cindy Bladey,
Chief, Rules, Announcements, and Directives Branch, Division of Administrative Services, Office of Administration.

[FR Doc. 2013-06545 Filed 3-21-13; 8:45 am]

BILLING CODE 7590-01-P